DEPARTMENT OF TRANSPORTATION

Maritime Administration

[Docket Number: MARAD-2007-27710]

Use of Foreign-Flag Anchor Handling Vessels in the Beaufort Sea or Chukchi Sea Adjacent to Alaska

AGENCY: Maritime Administration, Department of Transportation.

ACTION: Notice and Request for Comments.

SUMMARY: As authorized by Pub. L. 109-347, the Secretary of Transportation, as represented by the Maritime Administration (MARAD), is authorized to make determinations permitting the use of foreign-flag anchor handling vessels in certain cases (and for a limited period of time) if no U.S.-flag vessels are found to be suitable and reasonably available.

A request for such a determination has been received by MARAD. If MARAD determines that U.S.-flag vessels are not suitable and reasonably available for the proposed service, a determination will be granted allowing for the conditional use of these vessels, within a set time frame. Those interested in providing the names of suitable and available vessels for the proposed service should refer to the docket number, and identify the U.S.-flag vessels available. A brief description of the proposed service of the vessels is listed below. A copy of the request may be accessed at http://dms.dot.gov under DOT docket number MARAD-2007-27710.

DATES: Submit U.S.-flag vessel nominations on or before April 27, 2007.

ADDRESSES: U.S.-flag vessel nominations should refer to docket number MARAD-2007-27710. Written nominations may be submitted by hand or by mail to the Docket Clerk, U.S. DOT Dockets, Room PL-401, Department of Transportation, 400 7th St., SW., Washington, DC 20590-0001. You may also send documents electronically via the Internet at http://dmses.dot.gov/submit/. All submissions will become part of this docket and will be available for inspection and copying at the above address between 10 a.m. and 5 p.m., E.T., Monday through Friday, except Federal holidays. An electronic version of this document, and all documents entered into this docket, is available on the World Wide Web at http://dms.dot.gov.

FOR FURTHER INFORMATION CONTACT: Michael Hokana, U.S. Department of Transportation, Maritime Administration, MAR-830 Room 7201, 400 Seventh Street, SW., Washington, DC 20590. Telephone 202-366-0760.

SUPPLEMENTARY INFORMATION: The Maritime Administration has received a request from an attorney on behalf of a client seeking permission to charter foreign-flag ice-class anchor handling vessels adjacent to the coast of Alaska. The two foreign-flag anchor handling vessels (TOR VIKING, Swedish-flag #9199622, and the FENNICA, Finnish-flag #9043615) would operate in the Beaufort Sea or Chukchi Sea adjacent to Alaska, under certain conditions, and for a limited period of time. Section 705 of Pub. L. 109-347 allows the use of foreign-flag vessels in this regard if MARAD determines that U.S.-flag vessels are not suitable or reasonably available.

MARAD is posting this notice in the Federal Register providing the public 30 days notice on our intention to provide a determination allowing for the use of foreign-flag vessels in this regard, if suitable and available U.S.-flag vessels are not otherwise identified. MARAD's determination will be for the period through June 30, 2008.

Dated: March 22, 2007.
By order of the Maritime Administrator.
Daron T. Threet,
Secretary, Maritime Administration.

[FR Doc. E7-5716 Filed 3-27-07; 8:45 am]

BILLING CODE 4910-81-P